ENVIRONMENTAL PROTECTION

[EPA-HQ-OPP-2007-0005; FRL-8144-5]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations and providing a public comment period.

DATES: Unless a request is withdrawn by February 19, 2008 or September 19, 2007 for registrations for which the registrant requested a waiver of the 180-day comment period, orders will be issued canceling these registrations. The Agency will consider withdrawal requests postmarked no later than February 19, 2008 or September 19, 2007, whichever is applicable. Comments must be received on or before February 19, 2008 or September 19, 2007, for those registrations where the 180-day comment period has been waived.

ADDRESSES: Submit your comments and your withdrawal request, identified by docket identification (ID) number EPA-HQ-OPP-2007-0005, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written withdrawal requests should be to the Attention of: John Jamula, Information Technology and Resources Management Division (7502P), at the address above.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2007-0005. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 238 pesticide products registered under section 3 or 24(c) of FIFRA. These registrations are listed in sequence by registration number (or company number and 24(c) number) in Table 1 below:

EPA is seeking public comments on these voluntary cancellation requests as required under Section 6(f) of FIFRA. The proposed cancellations do not affect tolerances for residues of these pesticides in or on food established under FFDCA. If all registrations of pesticide products for use on a food are cancelled, however, EPA will generally propose to revoke the associated tolerance, on the presumption that there will no longer be any need for a tolerance, since the pesticide can no longer be legally used in that way in the U.S. Proposals to modify or revoke tolerances are separate proceedings subject to public comment, and are notified to our trading partners under the World Trade Organization Agreement on the Application of Sanitary and Phytosanitary Measures. If any person requests that a tolerance be continued (to cover residues in imported food) and the data are sufficient to support the required safety finding, that tolerance would not be revoked and would remain in effect.

Table 1.—Registrations With Pending Requests for Cancellation

Table 1.—Registrations With Pending Requests for Cancellation
Registration no. | Product name | Chemical name
000100-01069 | Fusilade 4 EC Herbicide | Propanoic acid, 2-(4-((5-(trifluoromethyl)-2-pyridinyl)oxy)phenoxy)-, butyl ester
000228-00071 | Riverdale 2,4-D L.V. 2 Ester | 2,4-D, 2-ethylhexyl ester
000228-00148 | Riverdale Turf Weedestroy-D | 2,4-D, dimethylamine salt
000228-00152 | Riverdale Weed and Feed | 2,4-D, 2-ethylhexyl ester
|  | Mecoprop-P
000228-00163 | Riverdale Premium Weed and Feed | 2,4-D, 2-ethylhexyl ester
|  | Mecoprop-P
000228-00168 | Riverdale 101 Weed Killer | Benzoic acid, 3,6-dichloro-2-methoxy-, compd with N-methylmethanamine (1:1)
|  | 2,4-D, dimethylamine salt
000228-00169 | Riverdale 81 Selective Weedkiller | Benzoic acid, 3,6-dichloro-2-methoxy-, compd with N-methylmethanamine (1:1)
|  | 2,4-D, dimethylamine salt
000228-00170 | Riverdale Lawn Weed Killer | Benzoic acid, 3,6-dichloro-2-methoxy-, compd with N-methylmethanamine (1:1)
|  | 2,4-D, dimethylamine salt
000228-00191 | Riverdale 2D + 2 MCPP-P Amine Turf Herbicide | 2,4-D, dimethylamine salt
|  | Mecoprop-P
000228-00321 | Riverdale XRM-5202 Premium Selective Hebicide | 2,4-D, triisopropanolamine salt
|  | Triclopyr, triethylamine salt
|  | Clopyralid
000228-00322 | Millenium Ultra Selective Herbicide | Benzoic acid, 3,6-dichloro-2-methoxy-, compd with N-methylmethanamine (1:1)
|  | 2,4-D, dimethylamine salt
|  | 3,6-Dichloro-2-pyridinecarboxylic acid, alkanolamine salts (of ethanol and isopropanol serie
000228-00337 | Riverdale XRM-5202 Premium Lawn Weed Killer | 2,4-D, triisopropanolamine salt
|  | Triclopyr, triethylamine salt
|  | Clopyralid
000228-00339 | XRM-5202 Premium Spot Weed Killer | 2,4-D, triisopropanolamine salt
|  | Triclopyr, triethylamine salt
|  | Clopyralid
000228-00340 | Riverdale XRM-5202 Premium Weed and Feed | 2,4-D, triisopropanolamine salt
|  | Triclopyr, triethylamine salt
|  | Clopyralid
000228-00341 | Riverdale XRM-5202 Premium Granular Weed Killer | 2,4-D, triisopropanolamine salt
|  | Triclopyr, triethylamine salt
|  | Clopyralid
000228-00345 | Millennium Ultra Lawn Weed Killer | Benzoic acid, 3,6-dichloro-2-methoxy-, compd with N-methylmethanamine (1:1)
|  | 2,4-D, dimethylamine salt
|  | 3,6-Dichloro-2-pyridinecarboxylic acid, alkanolamine salts (of ethanol and isopropanol serie
000228-00346 | Millennium Ultra 8000 Lawn Weed Killer | Benzoic acid, 3,6-dichloro-2-methoxy-, compd with N-methylmethanamine (1:1)
|  | 2,4-D, dimethylamine salt
|  | 3,6-Dichloro-2-pyridinecarboxylic acid, alkanolamine salts (of ethanol and isopropanol
000228-00347 | Millennium Ultra Spot Weed Killer | Benzoic acid, 3,6-dichloro-2-methoxy-, compd with N-methylmethanamine (1:1)
|  | 2,4-D, dimethylamine salt
|  | 3,6-Dichloro-2-pyridinecarboxylic acid, alkanolamine salts (of ethanol and isopropanol
000228-00354 | Depth Charge Aquatic Herbicide | 2,4-D, dimethylamine salt
000228-00362 | Riverdale XRM-5202 Lite Premium Selective Herbicide | 2,4-D, triisopropanolamine salt
|  | Triclopyr, triethylamine salt
|  | Clopyralid
000228-00374 | Riverdale DCDP-P Selective Herbicide | 2,4-D, dimethylamine salt
|  | Propanoic acid, 2-(2,4-dichlorophenoxy)-, (R)-, compd. with N-methylmethanamine (1:1)
|  | 3,6-Dichloro-2-pyridinecarboxylic acid, alkanolamine salts (of ethanol and isopropanol
000228-00377 | Riverdale Millineum Ultra N.Y. Weed and Feed | Dicamba
|  | 2,4-D, dimethylamine salt
|  | 3,6-Dichloro-2-pyridinecarboxylic acid, alkanolamine salts (of ethanol and isopropanol
000228-00382 | Riverdale Millennium Ultra Plus | MSMA (and salts)
|  | Benzoic acid, 3,6-dichloro-2-methoxy-, compd with N-methylmethanamine (1:1)
|  | 2,4-D, dimethylamine salt
|  | Clopyralid
000228-00383 | Riverdale TSC TB-3 Premium Selective Herbicide | Dicamba
|  | 2-4,D
|  | 2,4-D, 2-ethylhexyl ester
|  | Clopyralid
000228 MS-91-0004 | Riverdale Weedestroy (r) Am-40 Amine Salt | 2,4-D, dimethylamine salt
000228 OR-94-0036 | Riverdale Weedestroy (r) Am 40 Amine Salt | 2,4-D, dimethylamine salt
000228 WA-94-0032 | Riverdale Weedestroy (r) Am-40 Amine Salt | 2,4-D, dimethylamine salt
000241 WA-00-0005 | Prowl 3.3 EC Herbicide | Pendimethalin
000241 WA-99-0003 | Prowl 3.3 EC Herbicide | Pendimethalin
000264-00724 | Di-Syston Seed Treatment Insecticide | Disulfoton
000264-00981 | Gaucho CS Flowable | Thiram
|  | Carboxin
|  | Imidacloprid
000264-00983 | Cotguard | 2-(Thiocyanomethylthio)benzothiazole
|  | Carboxin
|  | Metalaxyl
000264 TX-86-0007 | Di-Syston 8 | Disulfoton
000264 WA-04-0028 | Di-Syston 15% Granular Systemic Insecticide | Disulfoton
000305-00040 | Repel Insect Repellent Unscented Sportsmen Formula 18 | 2,5-Pyridinedicarboxylic acid, dipropyl ester
|  | MGK 264
|  | Diethyl toluamide
000352-00378 | Dupont Velpar Herbicide | Hexazinone
000352-00404 | Dupont Telar Herbicide | Chlorsulfuron
000352-00582 | Velpar Ulw Df Herbicide | Hexazinone
000352-00630 | Dupont Cimarron X-TRA (MP) Herbicide | Chlorsulfuron
|  | Metsulfuron
000352-00642 | Dupont Gf 1:2 Herbicide | Flucarbazone-sodium
|  | Chlorsulfuron
000352-00687 | Meturon 80 DF | Fluometuron
000352 OK-05-0001 | Dupont Finesse Grass & Broadleaf (MP) Herbicide | Flucarbazone-sodium
|  | Chlorsulfuron
000352 TX-01-0015 | Griffin Linuron 4l Flowable Weed Killer | Linuron
000352 TX-04-0028 | Dupont Finesse Grass & Broadleaf (MP) Herbicide | Flucarbazone-sodium
|  | Chlorsulfuron
000400-00080 | Vitavax Fungicide | Carboxin
000400-00092 | Vitavax - T Fungicide (vitavax with Thiram) | Thiram
|  | Carboxin
000400-00106 | Vitavax | Carboxin
000400-00113 | Vitavax-17 Flowable Fungicide | Carboxin
000400-00115 | Vitavax-25DB Fungicide | Carboxin
000400-00116 | Vitavax-R Flowable Fungicide | Thiram
|  | Carboxin
000400-00124 | Vitavax - 30c | Carboxin
000400-00152 | Vitavax-3F Fungicide | Carboxin
000400-00156 | Vitavax Pour-On Flowable Fungicide | Thiram
|  | Carboxin
000400-00475 | Terraclor Super X Plus Di-Syston EC | Disulfoton
|  | Pentachloronitrobenzene
|  | Etridiazole
000400-00528 | Gustafson Rival Flowable Systemic Fungicide | Pentachloronitrobenzene
|  | Thiabendazole
|  | Captan
000432-01283 | Baygon 2% Bait | Propoxur
000432-01284 | Baygon 70 WP_insecticide | Propoxur
000432-01323 | Laser Ant and Roach Killer II | Propoxur
|  | Piperonyl butoxide
|  | Pyrethrins
|  | Cyfluthrin
000432-01327 | Baygon 1.5 EC Formula II | Propoxur
000769-00583 | R & M Aloe Repellent Treatment | 2,5-Pyridinedicarboxylic acid, dipropyl ester
|  | MGK 264
|  | Piperonyl butoxide
|  | Pyrethrins
000769-00611 | R & M Garden and Kennel Dust 5% | Carbaryl
000769-00652 | SMCP Thiram 75 Turf Fungicide | Thiram
000769-00838 | Miller Turf Food 12-6-6 Plus 2 | 2,4-D, dimethylamine salt
000769-00839 | Miller Liquid Weedaway contains Banvel-D & 2,4-D | Benzoic acid, 3,6-dichloro-2-methoxy-, compd with N-methylmethanamine (1:1)
|  | 2,4-D, dimethylamine salt
000769-00866 | Pratt Animal Repellent | Thiram
000769-00907 | Science Rabbit and Deer Repellent | Thiram
000769-00910 | Science Thiram Seed Protectant | Thiram
000869-00123 | Green Light Wipe-Out Broadleaf Weed Killer | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
001021-01472 | Esbiothrin Technical | d-trans-Chrysanthemum monocarboxylic ester of dl-2-allyl-4-hydroxy-3-methyl-2-cyclopenten
001381-00145 | 4 LG | 2,4-D, dimethylamine salt
001381-00150 | Imperial Lawn Weed Killer (contains Banvel D and 2,4-D) | Benzoic acid, 3,6-dichloro-2-methoxy-, compd with N-methylmethanamine (1:1)
|  | 2,4-D, dimethylamine salt
001381-00155 | Wilfarm 2,4-D Amine 4 | 2,4-D, dimethylamine salt
001381-00156 | Wilfarm 2,4-D LV4 | 2,4-D, 2-ethylhexyl ester
001381-00157 | Wilfarm 2,4-D LV6 | 2,4-D, 2-ethylhexyl ester
001381-00176 | Agrisolutions 2, 4-D Concentrate | 2-4,D
001381 MI-05-0002 | Actellic 5 E Insecticide | Pirimiphos-methyl
001812-00285 | Meturon 4L | Fluometuron
001812-00438 | Cotoran DF Herbicide | Fluometuron
002217-00041 | Lawn Weed Killer (Amine Type) | 2,4-D, dimethylamine salt
002217-00314 | 20% Granular 2,4-D Low Volatile | 2,4-D, 2-ethylhexyl ester
002217-00354 | Lawn Weed Killer Granules | 2,4-D, 2-ethylhexyl ester
002217-00422 | Dandelion and Broadleaf Weed Killer | Benzoic acid, 3,6-dichloro-2-methoxy-, compd with N-methylmethanamine (1:1)
|  | 2,4-D, dimethylamine salt
002217-00457 | Super Lawn Weed Killer | Benzoic acid, 3,6-dichloro-2-methoxy-, compd with N-methylmethanamine (1:1)
|  | 2,4-D, dimethylamine salt
002217-00468 | LV-6 2,4-D Weed Killer | 2,4-D, 2-ethylhexyl ester
002217-00489 | Trimec Weed-'n-Feed | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00508 | Trimec DMB Mix No. 1 | Dicamba
|  | 2-4,D
|  | Mecoprop-P
002217-00516 | Gordon's Bl 9600 Lawn Weed Killer | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00530 | Gordon's Broadleaf Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00533 | Super Trimec Weed-'n-Feed | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00567 | Trimec D.m.b. #3 Turf Herbicide | Dicamba
|  | 2-4,D
|  | Mecoprop-P
002217-00568 | St. Augustinegrass Weed & Feed 580 20-10-5 Lawn Fertilizer | Dicamba
|  | 2-4,D
|  | Mecoprop-P
002217-00593 | Trimec D.M.B #4 Turf Herbicide | Dicamba
|  | 2-4,D
|  | Mecoprop-P
002217-00594 | Gordon's St. Augustinegrass Lawn Weeder & Feeder | Dicamba
|  | 2-4,D
|  | Mecoprop-P
002217-00615 | Trimec Dmb Mix No. 1-4x Manufacturing Concentrate | Dicamba
|  | 2-4,D
|  | Mecoprop-P
002217-00618 | Trimec Vinex F Concentrate | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00621 | DM Mix #1 Turf Herbicide | 2-4,D
|  | Mecoprop-P
002217-00623 | Trimec 225 Turf Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00624 | Gordon's Trimec 450 Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00625 | Gordon's Sod Farm Trimec | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00633 | Gordons Amine 2,4-D Turf Herbicide | 2,4-D, dimethylamine salt
002217-00644 | Gordon's Brush Killer 823 | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00647 | Gordon's 2,4-D/dicamba Amine Turf Herbicide | Benzoic acid, 3,6-dichloro-2-methoxy-, compd with N-methylmethanamine (1:1)
|  | 2,4-D, dimethylamine salt
002217-00648 | Gordon's Brush Killer 801 | Dicamba
|  | 2,4-D, 2-ethylhexyl ester
|  | 2-Ethylhexyl (R)-2-(2,4-dichlorophenoxy)propionate
002217-00654 | 4lb. Amine 2,4-D Herbicide Manufacturing Concentrate | 2,4-D, dimethylamine salt
002217-00659 | Gordon's Trimec Weed & Feed 4 1/2 | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00662 | Spreader King Lawn Weed Killer | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00663 | Trimec 901 Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00665 | 6 lb. Amine 2,4-D Herbicide Manufacturing Concentrate | 2,4-D, dimethylamine salt
002217-00698 | Trimec 321 Turf Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00726 | Trimec 901 Liquid Weed & Feed 20-0-0 | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00727 | Trimec 902 Liquid Weed & Feed 20-0-0 | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
002217-00742 | DM 899 Liquid Weed & Feed 20-0-0 | 2,4-D, dimethylamine salt
|  | Propanoic acid, 2-(4-chloro-2-methylphenoxy)-, (R)-, compd. with N-methylmethanamine (1:1)
002217-00772 | DM Weed-No-More | 2,4-D, dimethylamine salt
|  | Propanoic acid, 2-(4-chloro-2-methylphenoxy)-, (R)-, compd. with N-methylmethanamine (1:1)
002724-00548 | Speer Double Strength Insect Repellent | 2,5-Pyridinedicarboxylic acid, dipropyl ester
|  | MGK 264
|  | Diethyl toluamide
002724-00611 | Whitmire Foam-Off Flea Killer Shampoo for Dogs | Butoxypolypropylene glycol
|  | Rotenone
|  | Cube Resins other than rotenone
002724-00683 | Killer Kane Kartridges | 2,4-D, sodium salt
002792-00038 | Deccoquin 305 Concentrate | Ethoxyquin
002935 WA-80-0073 | Red Top Superior Spray Oil N.w. | Mineral oil - includes paraffin oil from 063503
004822-00224 | Raid Wasp & Hornet Killer III | Propoxur
|  | Tetramethrin
004822-00433 | Raid Product 319 | Benzyl benzoate
004822-00449 | Raid Max Roach & Ant Killer 6 | Propoxur
|  | Piperonyl butoxide
|  | Pyrethrins
|  | Cyfluthrin
004822-00480 | Raid Product 420 | Benzyl benzoate
005383-00101 | Mergal S 89 Paste | Diuron
|  | Octhilinone
|  | Carbendazim
005481-00016 | Alco Parade | 2,5-Pyridinedicarboxylic acid, dipropyl ester
|  | MGK 264
|  | Piperonyl butoxide
|  | Pyrethrins
005481-00052 | Alco Parade (pressurized) | 2,5-Pyridinedicarboxylic acid, dipropyl ester
|  | MGK 264
|  | Piperonyl butoxide
|  | Pyrethrins
005481-00153 | Alco Equine Spray | 2,5-Pyridinedicarboxylic acid, dipropyl ester
|  | MGK 264
|  | Piperonyl butoxide
|  | Pyrethrins
005481-00234 | Low Vol 4D Weed Killer | 2,4-D, 2-ethylhexyl ester
005481-00235 | Low Vol 6D Weed Killer | 2,4-D, 2-ethylhexyl ester
005887-00055 | Black Leaf Spot Weed Killer | 2,4-D, dimethylamine salt
005905-00068 | Helena Brand Propanil-3 | Propanil
005905-00077 | Atlas Brand Propanil 4 | Propanil
005905-00182 | Helena Brand Propanil 4 | Propanil
005905-00245 | Helena Brand Diuron 80 Wp Weed Killer | Diuron
005905-00482 | Helena 4.8 Lb. Diuron Flowable Herbicide | Diuron
005905-00517 | Setre Carbaryl 80 WP Insecticide | Carbaryl
007138-00014 | Carpetmaker with Atrazine | Atrazine
007401-00007 | Ferti Lome Nutgrass Killer | MSMA (and salts)
|  | 2,4-D, 2-ethylhexyl ester
007401-00033 | Ferti-Lome Lawn Weed Killer Granules | Benzoic acid, 3,6-dichloro-2-methoxy-, compd with N-methylmethanamine (1:1)
|  | 2,4-D, dimethylamine salt
007401-00037 | Ferti-Lome Weed & Feed for Controlling Weeds | Benzoic acid, 3,6-dichloro-2-methoxy-, compd with N-methylmethanamine (1:1)
|  | 2,4-D, dimethylamine salt
007401-00040 | Ferti Lome Broad Spectrum Weed Killer | Benzoic acid, 3,6-dichloro-2-methoxy-, compd with N-methylmethanamine (1:1)
|  | 2,4-D, dimethylamine salt
007401-00144 | Ferti-Lome Spot Weed Killer | 2,4-D, dimethylamine salt
007401-00168 | Ferti-Lome Liquid Nutgrass Killer | MSMA (and salts)
|  | 2,4-D, dimethylamine salt
007401-00171 | Ferti-Lome Systemic Weed Killer | Benzoic acid, 3,6-dichloro-2-methoxy-, compd with N-methylmethanamine (1:1)
|  | 2,4-D, dimethylamine salt
007401-00263 | Fertilome Dandelion and Crabgrass Killer | MSMA (and salts)
|  | 2,4-D, dimethylamine salt
007401-00265 | Ferti-Lome Home Garden Bug Bait | Metaldehyde
|  | Carbaryl
007401 MS-90-0023 | 2,4-D Amine Type Weed Killer | 2,4-D, dimethylamine salt
007401 MS-97-0007 | Weedar 64 (r) Broadleaf Herbicide | 2,4-D, dimethylamine salt
007401 MS-98-0008 | Weedar 64 Broadleaf Herbicide | 2,4-D, dimethylamine salt
007969-00121 | Ultima 160 Herbicide | Sethoxydim
007969-00129 | Poast 3.5 Herbicide | Sethoxydim
007969-00176 | Poast 2.0 Herbicide | Sethoxydim
007969 CA-92-0005 | BASF Poast Herbicide | Sethoxydim
008378-00004 | Shaw's Weed and Feed 10-6-4 | 2,4-D, dimethylamine salt
008378-00023 | Shaw's Premium Weed & Feed - Formula 1 | 2,4-D, dimethylamine salt
|  | Propanoic acid, 2-(2,4-dichlorophenoxy)-, (R)-, compd. with N-methylmethanamine (1:1)
|  | Propanoic acid, 2-(4-chloro-2-methylphenoxy)-, (R)-, compd. with N-methylmethanamine (1:1)
008378-00024 | Shaw's Premium Weed & Feed - Formula 2 | 2,4-D, dimethylamine salt
|  | Propanoic acid, 2-(2,4-dichlorophenoxy)-, (R)-, compd. with N-methylmethanamine (1:1)
|  | Propanoic acid, 2-(4-chloro-2-methylphenoxy)-, (R)-, compd. with N-methylmethanamine (1:1)
008378-00029 | Shaw's Premium Weed & Feed with 25-3-3 Lawn Food | 2,4-D, dimethylamine salt
|  | Propanoic acid, 2-(4-chloro-2-methylphenoxy)-, (R)-, compd. with N-methylmethanamine (1:1)
008660-00025 | Vertagard Thiram 75 WP | Thiram
008660-00047 | Green - Up 2,4-D Amine Weed Killer | 2,4-D, dimethylamine salt
008660-00064 | Vertagreen Weed & Feed | Benzoic acid, 3,6-dichloro-2-methoxy-, compd with N-methylmethanamine (1:1)
|  | 2,4-D, dimethylamine salt
008660-00069 | Green-Up Dandelion & Broadleaf Weed Killer | 2,4-D, dimethylamine salt
008660-00086 | Vertagreen Nutgrass Spray Herbicide | MSMA (and salts)
|  | 2,4-D, dimethylamine salt
008660-00090 | Dandelion and Chickweed Killer | Benzoic acid, 3,6-dichloro-2-methoxy-, compd with N-methylmethanamine (1:1)
|  | 2,4-D, dimethylamine salt
008660-00093 | Dandelion, Chickweed and Broadleaf Weed Killer | Benzoic acid, 3,6-dichloro-2-methoxy-, compd with N-methylmethanamine (1:1)
|  | 2,4-D, dimethylamine salt
008660-00105 | Broadleaf Spot Weed Killer | Benzoic acid, 3,6-dichloro-2-methoxy-, compd with N-methylmethanamine (1:1)
|  | 2,4-D, dimethylamine salt
008660-00118 | Dandelion, Chickweed & Broadleaf Spot Weed Killer | Benzoic acid, 3,6-dichloro-2-methoxy-, compd with N-methylmethanamine (1:1)
|  | 2,4-D, dimethylamine salt
008660-00176 | Golden Vigoro 17-3-4 Weed Control Plus Fertilizer Weed | 2,4-D, dimethylamine salt
008660-00183 | Green Turf Weed & Feed | 2,4-D, dimethylamine salt
008660-00198 | Kmart Weed and Feed | 2,4-D, dimethylamine salt
008660-00230 | Swift's Lawn Weeder and Feeder | 2,4-D, dimethylamine salt
009198-00046 | Andersons Weed and Feed Xx-Xx-Xx | 2,4-D, dimethylamine salt
|  | Propanoic acid, 2-(4-chloro-2-methylphenoxy)-, (R)-, compd. with N-methylmethanamine (1:1)
009198-00066 | Lofts Crabgrass Preventer Plus Lawn Food 25-3-3 | Benfluralin
009198-00197 | Andersons Golf Products Fluid Fungicide III | Thiram
|  | Triadimefon
009688-00138 | Chemsico Brush Killer Concentrate | Dicamba
|  | 2,4-D, 2-ethylhexyl ester
|  | 2-Ethylhexyl (R)-2-(2,4-dichlorophenoxy)propionate
009688-00139 | Chemsico Lawn Weed Killer Concentrate | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
009688-00163 | Chemsico Liquid Weed & Feed 5000 | 2,4-D, dimethylamine salt
|  | Propanoic acid, 2-(4-chloro-2-methylphenoxy)-, (R)-, compd. with N-methylmethanamine (1:1)
009779-00256 | Riverside 2,4 D LV6 | 2,4-D, 2-ethylhexyl ester
009779-00257 | Riverside 2,4-D LV4 | 2,4-D, 2-ethylhexyl ester
009779-00263 | 2,4-D Amine 4 | 2,4-D, dimethylamine salt
009779-00311 | Fluometuron 80DF | Fluometuron
009779-00312 | Agrisolutions Fluometuron 4l | Fluometuron
009779-00319 | Fluometuron + MSMA | MSMA (and salts)
|  | Fluometuron
010163 ID-06-0001 | Eptam 7-E (for Enhabced Control of Annual/perennial | Carbamothioic acid, dipropyl-, S-ethyl ester
019713-00367 | Linuron Technical 1 | Linuron
019713-00584 | Pendimethalin 3.3 | Pendimethalin
019713-00591 | Metolachlor 8E | Metolachlor
019713-00593 | Metolachlor AT | Atrazine
|  | Metolachlor
019713-00595 | Metolachlor 8E Plus | Metolachlor
032802-00003 | Howard Johnson's Weed & Feed | 2,4-D, dimethylamine salt
032802-00031 | All Season Triamine Weed and Feed | 2,4-D, dimethylamine salt
|  | Propanoic acid, 2-(2,4-dichlorophenoxy)-, (R)-, compd. with N-methylmethanamine (1:1)
|  | Propanoic acid, 2-(4-chloro-2-methylphenoxy)-, (R)-, compd. with N-methylmethanamine (1:1)
032802-00074 | Weed & Feed for Northern Turfgrasses | Dicamba
|  | 2-4,D
|  | Mecoprop-P
032970-00005 | Haunt Residual Insect Spray | Propoxur
033068-00002 | Aquashade OA | Acid Blue 9
|  | 1H-Pyrazole-3-carboxylic acid, 4,5-dihydro-5-oxo-1-(4-sulfophenyl)-4-((4-sulfophenyl)azo)
034911-00009 | Hi-Yield Lawn Weed Killer | 2,4-D, dimethylamine salt
035935-00029 | Technical 2,4-D Acid | 2-4,D
036029-00013 | This Is the Way Zinc Phosphide Bait for Ground Squirrel | Zinc phosphide (Zn3P2)
036029 CA-03-0007 | Gopher Getter Type 2 Bait By Wilco | Diphacinone
042057-00112 | Morgro 20-2-2 Weed & Feed | 2,4-D, dimethylamine salt
042750-00024 | Mcpa Sodium Salt | MCPA, sodium salt
048234-00001 | Regalstar | Benfluralin
|  | Oxadiazon
051036 MS-02-0019 | Acephate 90SP | Acephate
053883-00158 | Dicamba-D Herbicide | Benzoic acid, 3,6-dichloro-2-methoxy-, compd with N-methylmethanamine (1:1)
|  | 2,4-D, dimethylamine salt
059623 CA-76-0155 | Clorox | Sodium hypochlorite
062719-00019 | N-Serve 24E | Nitrapyrin
062719-00075 | Turflon II Amine | 2,4-D, dimethylamine salt
|  | Triclopyr, triethylamine salt
062719-00231 | 2,4-D Acid 85 Wp Herbicide | 2-4,D
062719-00242 | Formula 40 Ivm | 2,4-D, dimethylamine salt
|  | 2,4-D, triisopropanolamine salt
062719-00256 | Justice Herbicide | 2-4,D
062719-00264 | Scorpion III | 2-4,D
|  | Clopyralid
|  | Flumetsulam
062719-00469 | GF-475 | 2,4-D, 2-ethylhexyl ester
062719 MI-94-0001 | Lorsban 4E-HF | Chlorpyrifos
062719 WA-00-0010 | Lorsban-4E | Chlorpyrifos
062719 WA-02-0010 | Dithane DF Rainshield | Mancozeb
066300 PR-92-0002 | Mocap 10% Granular Nematicide - Insecticide | Ethoprop
071368-00002 | Weedone Lv4 Broadleaf Postemergence Herbicide | 2,4-D, butoxyethyl ester
071368-00018 | Weedar (r) 64tf Broadleaf Herbicide | 2,4-D, dimethylamine salt
071368-00051 | 2,4-D Amine 6 | 2,4-D, dimethylamine salt
071368-00052 | 2,4-D Amine 4 | 2,4-D, dimethylamine salt
071368-00053 | 2,4-D Ester LV6 | 2,4-D, 2-ethylhexyl ester
071368-00054 | 2,4-D Ester LV4 | 2,4-D, 2-ethylhexyl ester
071368-00057 | U-46 D6 Herbicide 2,4-D Non-Volatile Amine Salt | 2,4-D, dimethylamine salt
071368-00058 | U-46 D4-Ester-Lv 2,4-D Low-Volatile Ester Herbicide | 2,4-D, 2-ethylhexyl ester
071368-00059 | Basf U-46 D-4 Herbicide | 2,4-D, dimethylamine salt
071368 AR-93-0001 | Weedar 64 Broadleaf Herbicide | 2,4-D, dimethylamine salt
071368 CT-00-0001 | Aqua-Kleen | 2,4-D, butoxyethyl ester
071368 LA-93-0001 | Weedar 64 Broadleaf Herbicide | 2,4-D, dimethylamine salt
071368 MS-05-0003 | Extra Credit 5 Systemic Herbicide | Dicamba
|  | 2,4-D, dimethylamine salt
071579 WA-98-0008 | Harvade-5F | Dimethipin
071711 WA-01-0016 | Moncut 50WP | Flutolanil
072155-00062 | Triway + Phenoxaprop Ready-To-Spray Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
|  | Fenoxaprop-p-ethyl
072155-00063 | Triway + Fenoxaprop Concentrate Herbicide | Benzoic acid, 3,6-dichloro-2-methoxy-, compd with N-methylmethanamine (1:1)
|  | 2,4-D, dimethylamine salt
|  | Mecoprop-P
|  | Fenoxaprop-p-ethyl
072155-00066 | Triway + Phenoxaprop Ready-To-Use Herbicide | Benzoic acid, 3,6-dichloro-2-methoxy-, compd with N-methylmethanamine (1:1)
|  | 2,4-D, dimethylamine salt
|  | Propanoic acid, 2-(4-chloro-2-methylphenoxy)-, (R)-, compd. with N-methylmethanamine (1:1)
|  | Fenoxaprop-p-ethyl
073049-00223 | Niagara Intermediate Concentrate Insecticide Code 924.2 | Butoxypolypropylene glycol
|  | Piperonyl butoxide
|  | Pyrethrins
073049-00252 | Pyrenone Plus Repellent | Butoxypolypropylene glycol
|  | Piperonyl butoxide
|  | Pyrethrins
073049-00253 | Pyrenone S.A. Concentrate 5 | Butoxypolypropylene glycol
|  | MGK 264
|  | Piperonyl butoxide
|  | Pyrethrins
080305-00001 | I-Ching Naphthalene Moth Balls | Naphthalene
081876-00001 | Boa Concentrate | Paraquat dichloride
081876-00002 | Boa Herbicide | Paraquat dichloride
083884-00008 | Fungitex TBZ | Thiabendazole

A request to waive the 180-day comment period has been received for the following registrations: 000769-00611; 002724-00548; 002724-00611; 002724-00683; 008660-00047; 008660-00064; 008660-00069; 008660-00086; 008660-00090; 008660-00093; 008660-00105; 008660-00118; 008660-00176; 008660-00183; 008660-00198; 008660-00230; 009688-00138; 009688-00139; 009688-00163; 062719-00019; 073049-00223; 073049-00252 073049-00253; 081876-00001; 081876-00002; 083884-00008. Therefore, the 30-day comment period will apply for these registrations.

Unless a request is withdrawn by the registrant by February 19, 2008 or by September 19, 2007 for those registrations with a 30-day comment period, orders will be issued canceling all of these registrations. A person may submit comments to EPA as provided in ADDRESSES and Unit I. of the SUPPLEMENTARY INFORMATION above. However, because FIFRA section 6(f)(1)(A) allows a registrant to request cancellation of its pesticide registrations at any time, users or anyone else desiring retention of those pesticides listed in Table 1 may want to contact the applicable registrant in Table 2 directly during this period to request that the registrant retain the pesticide registration or to discuss the possibility of transferring the registration. A user seeking to apply for its own registration of that pesticide may submit comments requesting EPA not to cancel a registration until its “me-too” registration is granted.

Table 2 of this unit includes the names and ADDRESSES of record for all registrants of the products in Table 1 of this unit, in sequence by EPA company number:

Table 2.—Registrants Requesting Voluntary Cancellation
EPA Company no. | Company Name and Address
000100 | Syngenta Crop Protection, Inc., Attn: Regulatory Affairs, PO Box 18300, Greensboro, NC 274198300.
000228 | Nufarm Americas Inc., 150 Harvester Drive, Suite 200, Burr Ridge, IL 60527.
000239 | The Ortho Business Group, d/b/a The Scotts Co., Po Box 190, Marysville, OH 43040.
000241 | BASF Corp., PO Box 13528, Research Triangle Park, NC 277093528.
000264 | Bayer Cropscience LP, 2 T.W. Alexander Drive, Research Triangle Park, NC 27709.
000305 | United Industries Corp., d/b/a Wpc Brands, Inc., PO Box 4406, Bridgeton, MO 63044.
000352 | E. I. Du Pont De Nemours & Co., Inc., Dupont Crop Protection (s300/427), PO Box 30, Newark, DE 197140030.
000400 | Chemtura Corp., 199 Benson Rd. (2-4), Middlebury, CT 06749.
000432 | Bayer Environmental Science, A Business Group of Bayer Cropscience LP, PO Box 12014, Research Triangle Park, NC 27709.
000769 | Value Gardens Supply, LLC, d/b/a Value Garden Supply, PO Box 585, Saint Joseph, MO 64502.
000869 | Green Light Co., PO Box 17985, San Antonio, TX 78217.
001021 | Mclaughlin Gormley King Co., 8810 Tenth Ave North, Minneapolis, MN 554274372.
001381 | Agriliance, LLC, PO Box 64089, St. Paul, MN 551640089.
001812 | Dupont Crop Protection/stine-Haskell Research Center, Agent For: Griffin L.L.C., PO Box 30, Newark, DE 197140030.
002217 | PBI/Gordon Corp., PO Box 014090, Kansas City, MO 641010090.
002724 | Wellmark International, 1501 E. Woodfield Rd., Suite 200 W., Schaumburg, IL 60173.
002792 | Decco, Cerexagri, Inc., 1713 S California Ave., Monrovia, CA 910160120.
002935 | Wilbur Ellis Co., PO Box 1286, Fresno, CA 93715.
004822 | S.C. Johnson & Son Inc., 1525 Howe Street, Racine, WI 53403.
005383 | Troy Chemical Corp., PO Box 955, Florham Park, NJ 079324200.
005481 | Amvac Chemical Corp., Attn: Jon C. Wood, 4695 Macarthur Ct., Suite 1250, Newport Beach, CA 926601706.
005887 | Value Gardens Supply, LLC, d/b/a Value Garden Supply, PO Box 585, Saint Joseph, MO 64502.
005905 | Helena Chemical Co., 225 Schilling Blvd., Suite 300, Collierville, TN 38017.
007138 | Registrations By Design, Inc., Agent For: Southern States Cooperative, Inc., 118 1/2 E. Main St., Suite 1, Salem, VA 241533805.
007401 | Voluntary Purchasing Groups, Inc., PO Box 460, 230 FM 87, Bonham, TX 75418.
007969 | BASF Corp., Agricultural Products, PO Box 13528, Research Triangle Park, NC 277093528.
008378 | Total Turf Consulting LLC, Agent For: Knox Fertilizer Co Inc., 300 W. Fifth St., #411, Charlotte, NC 28202.
008660 | United Industries Corp., d/b/a Sylorr Plant Corp., PO Box 142642, St. Louis, MO 631140642.
009198 | The Andersons Lawn Fertilizer Division, Inc., dba/ Free Flow Fertilizer, PO Box 119, Maumee, OH 43537.
009688 | Chemsico, Div of United Industries Corp., PO Box 142642, St Louis, MO 631140642.
009779 | Agriliance, LLC, PO Box 64089, St Paul, MN 551640089.
010163 | Gowan Co., PO Box 5569, Yuma, AZ 853665569.
019713 | Drexel Chemical Co., 1700 Channel Ave., Memphis, TN 38106.
032802 | Howard Johnson's Enterprises Inc., 700 W. Virginia St. Ste 222, Milwaukee, WI 532041548.
032970 | American Cleaning Solutions, Division of American Wax Co., Inc., 39-30 Review Ave., Long Island City, NY 11101.
033068 | Aquashade, W175 N11163 Stonewood Drive, Suite 234, Germantown, WI 530224799.
034911 | Hi-Yield Chemical Co., PO Box 460, 230 FM 87, Bonham, TX 75418.
035935 | Nufarm Limited, Agent For: Nufarm Limited, PO Box 13439, RTP, NC 27709.
036029 | Wilco Distributors, Inc., PO Box 291, Lompoc, CA 93438.
042057 | Morgro Chemical Co., 145 W. Central Ave, Salt Lake City, UT 84107.
042750 | Albaugh, Inc., Agent For: Albaugh Inc., PO Box 2127, Valdosta, GA 316042127.
048234 | Regal Chemical Co., 600 Branch Dr., Alpharetta, GA 30004.
051036 | BASF Sparks LLC, PO Box 13528, Research Triangle Park, NC 27709.
053883 | Control Solutions, Inc., 5903 Genoa-Red Bluff, Pasadena, TX 775071041.
059623 | California Dept. of Food & Agriculture, office of Pesticide Consultation & Analysis, 1220 N Street, Room 444, Sacramento, CA 95814.
062719 | Dow Agrosciences LLC, 9330 Zionsville Rd 308/2E, Indianapolis, IN 462681054.
066300 | Aventis Cropscience USA LP, Agent For: Aventis Cropscience Puerto Rico, PO Box 12014, Research Triangle Park, NC 27709.
071368 | Nufarm, Inc., 150 Harvester Drive Suite 200, Burr Ridge, IL 60527.
071579 | Association of Basin Nurseries, PO Box 1339, Wenatchee, WA 98807.
071711 | Nichino America, Inc., 4550 New Linden Hill Rd., Suite 501, Wilmington, DE 19808.
072155 | Bayer Advanced, A Business Unit of Bayer Cropscience LP, PO Box 12014, Research Triangle Park, NC 27709.
073049 | Valent Biosciences Corp., 870 Technology Way, Suite 100, Libertyville, IL 600486316.
080305 | Dr. Shih Y. Chang, Agent For: I-Ching Chemical Co., Ltd., 4 Hudson Ct., West Windsor, NJ 08550.
081876 | Landis International, Inc., Agent For: Griffin Corp., PO Box 5126, Valdosta, GA 316035126.
083884 | Calvin Hartzog, Agent For: Huntsman International, LLC, 2215 Commerce St., Bldg. D, Houston, TX 770022372.

III. What is the Agency's Authority for Taking this Action?

Section 6(f)(1)(A) of FIFRA provides that a registrant of a pesticide product may at any time request that any of its pesticide registrations be canceled. FIFRA further provides that, before acting on the request, EPA must publish a notice of receipt of any such request in the Federal Register and provide for a 30-day public comment period. In addition, where a pesticide is registered for a minor agricultural use and the Administrator determines that cancellation or termination of that use would adversely affect the availability of the pesticide for use, FIFRA section 6(f)(1)(C) requires EPA to provide a 180-day period before approving or rejecting the section 6(f) request unless:

1. The registrant requests a waiver of the 180-day period, or

2. The Administrator determines that continued use of the pesticide would pose an unreasonable adverse effect on the environment.

IV. Procedures for Withdrawal of Request

Registrants who choose to withdraw a request for cancellation must submit such withdrawal in writing to the person listed under FOR FURTHER INFORMATION CONTACT, postmarked before February 19, 2008 or before September 19, 2007 for those registrations where the 180-day comment period has been waived. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: August 10, 2007.
Robert Forrest,
Acting Director, Information Technology and Resources Management Division, Office of Pesticide Programs

[FR Doc. E7-16320 Filed 8-17-07; 8:45 am]

BILLING CODE 6560-50-S